DEPARTMENT OF THE INTERIOR

Bureau of Land Management

[MT-020-07-1310-DT]

Notice of Availability of the Supplemental Air Quality Analyses for the Draft Supplement to the Montana Statewide Final Oil and Gas Environmental Impact Statement and Amendment of the Powder River and Billings RMPs (Draft SEIS), Miles City, MT

AGENCY: Bureau of Land Management, Interior.

ACTION: Notice of Availability.

SUMMARY: Pursuant to the Federal Land Policy and Management Act of 1976 and the National Environmental Policy Act (NEPA) of 1969, as amended, the Bureau of Land Management (BLM), Miles City Field Office, has prepared supplemental air quality information for public review. On May 2, 2007, the public comment period on the Draft Supplement to the Montana Statewide Oil and Gas Environmental Impact Statement and Amendment of the Powder River and Billings RMPs (Draft SEIS) ended. The Environmental Protection Agency (EPA) notified the BLM of air quality analysis deficiencies in the Draft SEIS. As a result, the BLM has prepared additional air quality analyses to demonstrate that predicted visibility effects in Class I airsheds can be mitigated. This new air quality analyses supplements the Draft SEIS.

DATES: The 90-day public comment period on the supplemented air analyses will begin the date the EPA publishes their Notice of Availability in the Federal Register. Additional announcements are being made through local media by news releases and information will be posted on the SEIS Web site: http://www.blm.gov/eis/mt/milescity_seis/.

ADDRESSES: You may submit comments on the new air quality analyses by any of the following methods (your name and mailing address must be submitted as part of your comments):

• Web Site: http://www.blm.gov/eis/mt/milescity_seis/.

• Fax: (406) 233-2921.

• Mail: Draft SEIS Air Comments, Bureau of Land Management, P.O. Box 219, Miles City, Montana 59301 or hand deliver to 111 Garryowen Road, Miles City, Montana.

FOR FURTHER INFORMATION CONTACT: Mary Bloom, Project Manager, Miles City Field Office, P.O. Box 219, Miles City, Montana 59301. Ms. Bloom may also be reached by telephone at (406) 233-2852.

SUPPLEMENTARY INFORMATION: Public comments and information submitted regarding the supplemental air quality analysis, including names, e-mail addresses, and street addresses of the respondents, will be available for public review and disclosure at the above address during regular business hours (7:45 a.m. to 4:30 p.m.), Monday through Friday, except holidays. Before including your address, phone number, e-mail address, or other personal identifying information in your comment, you should be aware that your entire comment—including your personal identifying information—may be made publicly available at any time. While you can ask us in your comment to withhold your personal identifying information from public review, we cannot guarantee that we will be able to do so.

Gene R. Terland,
State Director.

[FR Doc. E7-24205 Filed 12-13-07; 8:45 am]

BILLING CODE 4310-$$-P